DEPARTMENT OF TRANSPORTATION

Maritime Administration

[Docket No. MARAD-2000-7224]

Information Collection Available for Public Comments and Recommendations

AGENCY: Notice and request for comments.

.

SUMMARY: In accordance with the Paperwork Reduction Act of 1995, this notice announces the Maritime Administration's (MARAD) intentions to request approval for three years of a new information collection titled “Intermodal Access Impediments to U.S. Ports and Marine Terminals Survey.”

DATES: Comments should be submitted on or before June 13, 2000.

FOR FURTHER INFORMATION CONTACT: Evie Chitwood, Office of Intermodal Development, 400 Seventh Street, SW, Room 7209, Washington, DC 20590, telephone number—202-366-5127. Copies of this collection can also be obtained from that office.

SUPPLEMENTARY INFORMATION: Title of Collection: Intermodal Access Impediments to U.S. Ports and Marine Terminals Survey.

Type of Request: Approval of a new information collection.

OMB Control Number: 2133-NEW.

Form Number: MA.

Expiration Date of Approval: Three years from the date of approval.

Summary of Collection of Information: The “Intermodal Access Impediments to U.S. Ports and Marine Terminals Survey,” was designed to be a questionnaire of critical infrastructure impediments that impact the Nation's ports and marine terminals. The collection of information will provide key highway, truck, rail, and waterside access data and will highlight the access impediments that affect the flow of cargo through U.S. ports and terminals.

Need and Use of the Information: The collection of information is necessary for MARAD officials to identify and assess the physical infrastructure impediments that impact the major ports and marine terminals. The annual data received will be used to statistically demonstrate the change in access impediments to the Nation's ports and terminals.

Description of Respondents: U.S. Ports and Terminals (including the top 50 U.S. deepwater ports, the top 25 container ports and the 14 strategic ports as well as the major shallow draft ports).

Annual Responses: 162 responses.

Annual Burden: 162 hours.

Comments: Signed written comments should refer to the docket number that appears at the top of this document and must be submitted to the Docket Clerk, U.S. DOT Dockets, Room PL-401, 400 Seventh Street, SW, Washington, DC 20590. Comments may also be submitted by electronic means via the Internet at http://dmses.dot.gov/submit. Specifically, address whether this information collection is necessary for proper performance of the function of the agency and will have practical utility, accuracy of the burden estimates, ways to minimize this burden, and ways to enhance quality, utility, and clarity of the information to be collected. All comments received will be available for examination at the above address between 10 a.m. and 5 p.m., edt. Monday through Friday, except Federal Holidays. An electronic version of this document is available on the World Wide Web at http://dms.dot.gov.

By Order of the Maritime Administrator.
Dated: April 10, 2000.
Joel C. Richard,
Secretary.

[FR Doc. 00-9253 Filed 4-13-00; 8:45 am]

BILLING CODE 4910-81-P